DEPARTMENT OF COMMERCE

Foreign-Trade Zones Board

[B-20-2023]

Foreign-Trade Zone (FTZ) 155, Notification of Proposed Production Activity; Caterpillar Inc.; (Construction and Earth Moving Machines); Victoria, Texas

Caterpillar Inc. submitted a notification of proposed production activity to the FTZ Board (the Board) for its facility in Victoria, Texas, within FTZ 155. The notification conforming to the requirements of the Board's regulations (15 CFR 400.22) was received on March 6, 2023.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished product(s) and material(s)/component(s) would be added to the production authority that the Board previously approved for the operation, as reflected on the Board's website.

The proposed finished products include front-end shovel loaders, landfill compactors, and wheel dozers (duty rates are duty-free).

The proposed foreign-status materials and components include: additives (coolant; hydraulic oil); refrigerants; diesel exhaust fluids; polyester-based paints; lubricant oils; rust preventative coatings; plastic components (seals; tapes; storage envelopes and protective covers; knobs; handles; latches; thrust discs; covers for connectors; shields for engines; hoses and hose assemblies); rubber components (tires; tires with steel rims); paper labels; man-made fiber ribbons; nylon protective sleeves for wire harnesses; polyester components (protective sleeves for sensors; webbing straps with plates); felt filters for water pumps; steel components (gaskets; slugs; flanges; couplings; elbows; connectors; cables; chains; wire links; fastener block bosses; brackets for wiring; support assemblies; angles for frame assemblies; baffles; blocks (for: tanks; hardware; arms; fasteners; bumpers; frames of machines); bearing caps; channels for frames; columns for frames; covers for valve mountings; drawbars; elbows and elbow assemblies for turbo lines; tube fillers and filler assemblies for tanks; frames and frame assemblies (for: batteries; engines; rippers); grills for radiators; assembly guards (yoke; tilt); door gussets; platform gussets; hitches and hitch assemblies; steering links for chassis frames; panels and panel assemblies; pins and pin assemblies for machines and machine frames; plates and plate assemblies (for machines and machine frames; doors; filter mounts; tanks; turn stops; valve mounts; ground plate assemblies; pin assemblies); posts for guardrails; rails and rail assemblies; screens and screen assemblies; clutch sleeves; spacers; tubes and tube assemblies; yokes and yoke assemblies; walkway handrails for machine frames; plates for adjusters; brackets); ceramic substrates for catalyst filters; mirrors; silicone and glass fiber insulation; iron components (slugs; flanges; couplings; elbows; connectors; cables; chains); metal components (ring seals; rivets); connectors (spring hose; electrical); copper components (tubes; insert fasteners; drain plugs); brass insert fasteners; taperlock studs; exhaust bellows; pump components (accumulators; spacers; sleeves; manifolds; covers); motor mufflers; winches; onboard in-cab printers; breaker bars; pneumatic hand-held lubricating pumps; balls for ball bearings; transmission shaft axles; shaft joints (universal; input); power train generators; antennas for tire monitoring systems; digital cameras installed on machines; radar detector sensors; capacitors; resistors; electronic controls; LED lamps; transistors; wire harnesses; brakes; brake axles; axles; axle components (spacers; washers; rings; pinions; retainers; housings; gears; cases; brake fluid tubes; drum wheels); radiators; radiator components (cores; tanks; sheets); mufflers; exhaust pipes; clutches; clutch components (pistons; plates; friction discs; housings); assemblies (tube; coupling; push button; core; crossmember; elbow tube for water lines; line; mount; platform; shaft; support; diesel exhaust fluid manifold; cushion; brush); couplings; adapters; adapter components (clutches; hoses); drive bearings; brackets and bracket assemblies; bushings; cage bearings; fuel caps and cap assemblies; cast iron components (hitch caps; covers for hydraulic tanks); core clutch discs; covers for oil lines; aluminum radiator elbows; guards (powertrain; radiator); hubs and hub assemblies; hub impellers; magnets; rebound pads; steel and iron bearing retainers; stainless steel components (rods for adjusters; sheets and sheet assemblies for chassis frames and radiators; shields and shield assemblies for exhaust and exhaust turbochargers); shafts (powertrain; brake); silicone wire heater sleeves; steel and aluminum tanks and tank assemblies; mounting components (group wiring; brackets; supports; clamps); frame locks; ring magnets; cab seats for machines; control support knobs; plates (for: bracket assemblies; machine seats); support arms; pins for machines and frames; adjuster controls; and, flood lamps and lights for machines (duty rate ranges from duty-free to 7.9%). The request indicates that certain materials/components are subject to duties under section 232 of the Trade Expansion Act of 1962 (section 232) or section 301 of the Trade Act of 1974 (section 301), depending on the country of origin. The applicable section 232 and section 301 decisions require subject merchandise to be admitted to FTZs in privileged foreign status (19 CFR 146.41).

Public comment is invited from interested parties. Submissions shall be addressed to the Board's Executive Secretary and sent to: ftz@trade.gov. The closing period for their receipt is April 24, 2023.

A copy of the notification will be available for public inspection in the “Online FTZ Information System” section of the Board's website.

For further information, contact Juanita Chen at juanita.chen@trade.gov.

Dated: March 8, 2023.
Elizabeth Whiteman,
Acting Executive Secretary.

[FR Doc. 2023-05150 Filed 3-13-23; 8:45 am]

BILLING CODE 3510-DS-P